ENVIRONMENTAL PROTECTION AGENCY

[EPA-HQ-OPP-2009-1017; FRL-8851-5]

Notice of Receipt of Requests To Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of requests by registrants to voluntarily cancel certain pesticide registrations. EPA intends to grant these requests at the close of the comment period for this announcement unless the Agency receives substantive comments within the comment period that would merit its further review of the requests, or unless the registrants withdraw their requests. If these requests are granted, any sale, distribution, or use of products listed in this notice will be permitted after the registrations have been canceled only if such sale, distribution, or use is consistent with the terms as described in the final order.

DATES: Comments must be received on or before December 10, 2010.

ADDRESSES: Submit your comments, identified by docket identification (ID) number EPA-HQ-OPP-2009-1017, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

Submit written withdrawal request by mail to: Pesticide Re-evaluation Division (7508P), Office of Pesticide Programs, Environmental Protection Agency, 1200 Pennsylvania Ave., NW., Washington, DC 20460-0001. Attention: Maia Tatinclaux.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to docket ID number EPA-HQ-OPP-2009-1017. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov Web site is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Maia Tatinclaux, Pesticide Re-evaluation Division (7508P), Office of Pesticide Programs, Environmental Protection Agency, 1200 Pennsylvania Ave., NW., Washington, DC 20460-0001; telephone number: (703) 347-0123; e-mail address: tatinclaux.maia@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. If you have any questions regarding the information in this notice, consult the person listed under FOR FURTHER INFORMATION CONTACT.

B. What should I consider as I prepare my comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What action is the agency taking?

This notice announces receipt by the Agency of requests from registrants to cancel 117 pesticide products registered under FIFRA section 3 or 24(c). These registrations are listed in sequence by registration number (or company number and 24(c) number) in Tables 1a, 1b, and 1c of this unit.

Unless the Agency determines that there are substantive comments that warrant further review of the requests or the registrants withdraw their requests, EPA intends to issue an order in the Federal Register canceling all of the affected registrations. The requests to cancel products with EPA Reg. Nos. 66330-63 and 66330-69 would terminate the last Sodium tetrathiocarbonate products registered for use in the United States.

The cancellations of products listed in Table 1b will be effective December 31, 2015. The requests to cancel these products would terminate the last Temephos products registered for use in the United States.

The cancellations of products containing active ingredients other than Sodium tetrathiocarbonate and Temephos would not terminate the last products registered for use in the United States of those active ingredients.

Table 1a—Registrations With Pending Requests for Cancellation
EPA reg. no. | Product name | Active ingredients
000228-00196 | Riverdale Patron TM DP-4 Ester | 2, 4-DP.
000228-00212 | Riverdale Prometon 1.5 Ready To Use Vegetation Killer | Prometon.
000228-00213 | Riverdale Prometon 5E Vegetation Killer | Prometon.
000228-00214 | Riverdale Prometon 3.73E Vegetation Killer | Prometon.
000228-00685 | Imazapyr E-Pro 2E—Site Prep & Basal Herbicide | Imazapyr, isopropylamine salt.
000228-00686 | Imazapyr E-Pro 2—VM & Aquatic Herbicide | Imazapyr.
000228-00687 | Imazapyr E-Pro 4—Forestry Herbicide | Imazapyr, isopropylamine salt.
000239-02391 | Ortho Dormant Disease Control | Calcium polysulfide.
000264-01001 | Scout Manufacturing Use Product | Tralomethrin.
000264-01003 | Scout Insecticide | Tralomethrin.
000264-01004 | Scout X-tra Insecticide | Tralomethrin.
000264-01005 | Scout 0.3 EC Insecticide | Tralomethrin.
000264-01009 | HR 20900 Insecticide | Deltamethrin Tralomethrin.
000264-01010 | Scout X-tra Gel Insecticide | Tralomethrin.
000432-00755 | Saga WP Insecticide | Tralomethrin.
000432-00760 | Saga WSB | Tralomethrin.
000432-00784 | Saga RTU-FA Insecticide | Tralomethrin.
000432-01278 | Tralex Manufacturing Use Product II | Tralomethrin.
000506-00157 | Tat House & Garden Insecticide Killer | Tetramethrin Phenothrin.
000655-00805 | Noxfish Fish Toxicant Liquid-Emulsifiable | Rotenone Cube Resins other than rotenone.
000655-00806 | Cube Powder Fish Toxicant | Rotenone Cube Resins other than rotenone.
000655-00807 | Powdered Cube Root | Rotenone Cube Resins other than rotenone.
000802-00533 | Noxall Vegetation Killer | Prometon.
001448-00093 | Busan 1016 | Metam-sodium Carbamodithioic acid, cyano-, disodium salt.
001448-00361 | Busan 1236 | Metam-sodium.
001663-00035 | Grant's Flying & Crawling Insect Killer | Piperonyl butoxide Permethrin Tetramethrin.
001677-00219 | Sanova Base (25%) | Sodium chlorite.
001839-00115 | Onyxide 200 Oil Field Application Preservative | Hexahydro-1,3,5-tris(2-hydroxyethyl)-s-triazine.
001839-00156 | Onyxide 200-50% | Hexahydro-1,3,5-tris(2-hydroxyethyl)-s-triazine.
004822-00491 | Windex Antibacterial Glass & Surface Cleaner | Isopropyl alcohol Propylene glycol.
005741-00009 | Sparquat 256 Germicidal Cleaner | 1-Decanaminium, N,N-dimethyl-N-octyl-, chloride; 1-Octanaminium, N,N-dimethyl-N-octyl-, chloride; Alkyl dimethyl benzyl ammonium chloride (50% C-14, 40%C12, 10%C16); 1-Decanaminium, N-decyl-N,N-dimethyl-, chloride.
009688-00192 | Chemsico Herbicide Concentrate P | Prometon.
009779-00133 | Riverside 912 Herbicide | MSMA (and salts).
028293-00160 | Unicorn House and Carpet Spray 11 | Phenothrin Tetramethrin.
028293-00215 | Unicorn IGR Pressurized Spray. | Phenothrin Tetramethrin Pyriproxyfen.
033753-00025 | Myacide DZ | Dazomet.
033753-00028 | Myacide HT T | Hexahydro-1,3,5-tris(2-hydroxyethyl)-s-triazine.
033753-00029 | Myacide HT | Hexahydro-1,3,5-tris(2-hydroxyethyl)-s-triazine.
034704-00647 | Metam Soil Fumigant | Metam-sodium.
034704-00769 | Nemasol 42% | Metam-sodium.
053883-00071 | Martin's Permethrin Termiticide/Insecticide | Permethrin.
053883-00093 | Glyphosate Technical | Glyphosate.
053883-00190 | Permethrin .5% Multi-Purpose Insecticide Spray | Permethrin.
066330-00063 | ETK-1101 | Sodium tetrathiocarbonate.
066330-00069 | Enzone | Sodium tetrathiocarbonate.
072155-00007 | Merit + Tempo Ready-to-Spray Insecticide | Cyfluthrin Imidacloprid.
072155-00008 | Tempo 0.1 Fire Ant Granular | Cyfluthrin.
072155-00011 | Merit 0.0003% PM Plus Fertilizer | Imidacloprid.
072155-00016 | Glyphosate 2% RTU Herbicide | Glyphosate-isopropylammonium.
072155-00017 | Prodiamine 0.26% Granular Herbicide Plus Lawn Fertilizer | Prodiamine.
072155-00018 | Prodiamine 0.28%G Lawn Herbicide | Prodiamine.
072155-00020 | Trimec Granular Herbicide Plus Fertilizer | Dicamba Mecoprop-P 2,4-D.
072155-00025 | Beta-Cyfluthrin 0.0015% RTU Insecticide | beta-Cyfluthrin.
072155-00026 | Beta-Cyfluthrin 0.38% Concentrate Insecticide | beta-Cyfluthrin.
072155-00030 | Imidacloprid 0.36% + Beta-Cyfluthrin 0.18% RTS Insecticide | beta-Cyfluthrin Imidacloprid.
072155-00033 | Dylox Insect Granules | Trichlorfon.
072155-00037 | Merit Concentrate Insecticide | Imidacloprid.
072155-00038 | Merit RTU Insecticide | Imidacloprid.
072155-00041 | Merit + Tempo Ready-to-Use Insecticide | Cyfluthrin Imidacloprid.
072155-00042 | Merit + Tempo Concentrated Insecticide | Cyfluthrin Imidacloprid.
072155-00045 | Tempo Insecticide | Cyfluthrin.
072155-00050 | Merit + Tempo Concentrate Insecticide II | Cyfluthrin Imidacloprid.
072155-00052 | Laser Ant & Roach Killer Pump Spray II | Cyfluthrin.
072155-00053 | Merit PM Plus Fertilizer | Imidacloprid.
072155-00054 | Tempo 1 FAD | Cyfluthrin.
072155-00059 | Imidacloprid 1.85 RD Insecticide | Imidacloprid.
072155-00060 | Trimec+ Prodiamine Granular Herbicide Plus Fertilizer | Dicamba Mecoprop-P 2,4-D; Prodiamine.
072155-00065 | Tempo 0.38% Concentrated Insecticide | beta-Cyfluthrin.
072642-00007 | Spinosad Ear Tag | Spinosad.
AL000001 | Penncap-M Microencapsulated Insecticide | Methyl parathion.
AL050003 | Waylay 3.2 Ag Permethrin Insecticide | Permethrin.
AL060003 | Permethrin 3.2 E.C. | Permethrin.
AR000006 | Penncap-M Microencapsulated Insecticide | Methyl parathion.
AR050009 | Waylay 3.2 Ag Permethrin Insecticide | Permethrin.
CA000001 | Penncap-M Microencapsulated Insecticide | Methyl parathion.
GA050006 | Waylay 3.2 Ag Permethrin Insecticide | Permethrin.
IL100001 | Prentox Prenfish Toxicant | Rotenone Cube Resins other than rotenone.
LA050012 | Waylay 3.2 Ag Permethrin Insecticide | Permethrin.
LA090005 | Penncap-M Microencapsulated Insecticide | Methyl parathion.
MO990005 | Dylox 80 Turf and Ornamental Insecticide | Trichlorfon.
MS000009 | Penncap-M Microencapsulated Insecticide | Methyl parathion.
MS050018 | Waylay 3.2 Ag Permethrin Insecticide | Permethrin.
MT050002 | Prentox Prenfish Toxicant | Rotenone Cube Resins other than rotenone.
NY080011 | Prentox Prenfish Toxicant | Rotenone Cube Resins other than rotenone.
SC050005 | Waylay 3.2 Ag Permethrin Insecticide | Permethrin.
TX050004 | Waylay 3.2 Ag Permethrin Insecticide | Permethrin.
TX990012 | Penncap-M Microencapsulated Insecticide | Methyl parathion.

Table 1b—Temephos Registrations With Pending Requests for Cancellation
EPA reg. No. | Product name | Active ingredients
000192-00213 | Temexx Mini-G Larvicide | Temephos.
000192-00215 | Temexx Micro-G Larvicide | Temephos.
000769-00678 | Temexx 4EC Larvicide | Temephos.
000769-00722 | Temexx 5G Larvicide | Temephos.
000769-00723 | Temexx 1G Larvicide | Temephos.
000769-00725 | Temexx 2G Larvicide | Temephos.
000769-00990 | Temephos Technical | Temephos.
008329-00015 | 5% Skeeter Abate | Temephos.
008329-00016 | Clarke Abate 2-BG | Temephos.
008329-00017 | Clarke 1% Skeeter Abate | Temephos.
008329-00030 | Clarke Abate 5% Tire Treatment | Temephos.
008329-00056 | Abate Insecticide MUP | Temephos.
008329-00060 | Abate 4E Insecticide | Temephos.
008329-00069 | Abate 4E Insecticide-For Use Only in California | Temephos.
008329-00070 | 5% Skeeter Abate-For Use Only in California | Temephos.
008329-00071 | Abate 2 BG-For Use Only in California | Temephos.
FL070008 | Abate 4E Insecticide | Temephos.
FL080015 | Allpro Provect 4E Larvicide | Temephos.

Table 1c—Methyl Bromide and Metam-sodium Registrations with Pending Requests for Cancellation
EPA reg. No. | Product name | Active ingredients
005481-00467 | Vapam Soil Fumigant Solution | Metam-sodium.
005785-00004 | Brom-O-Gas | Methyl bromide.
008622-00005 | Ameribrom Methyl Bromide—Grain Fumigant | Methyl bromide.
008622-00006 | Metabrom 98 | Methyl bromide.
008622-00014 | 70-30 Soil Fumigant | Methyl bromide
008622-00017 | Metabrom 99 | Methyl bromide.
051036-00060 | Fume V Soil Fumigant | Metam-sodium.
AZ900003 | Brom-O-Gas 2% Chloropicrin | Methyl bromide.
AZ900008 | Brom-O-Gas | Methyl bromide.
FL970009 | Terr-O-Gas 67 | Methyl bromide Chloropicrin.
FL970010 | Terr-O-Gas 98 Preplant Soil Fumigant | Methyl bromide Chloropicrin.
HI910006 | Terr-O-Gas 98 Preplant Soil Fumigant | Methyl bromide Chloropicrin.

Table 2 of this unit includes the names and addresses of record for all registrants of the products in Tables 1a, 1b, and 1c of this unit, in sequence by EPA company number. This number corresponds to the first part of the EPA registration numbers of the products listed in this unit.

Table 2—Registrants Requesting Voluntary Cancellation
Company number | Company name and address
192 | Value Gardens Supply, LLC, P.O. Box 585, Saint Joseph, MO 64502.
228 | Nufarm Americas Inc., 150 Harvester Drive, Suite 150, Burr Ridge, IL 60527.
239 | The Scotts Company, 14111 Scottslawn Road, Marysville, OH 43041.
264 | Bayer CropScience LP, 2 T.W. Alexander Drive, P.O. Box 12014, Research Triangle Park, NC 27709.
432 | Bayer Environmental Science, 2 T.W. Alexander Drive, P.O. Box 12014, Research Triangle Park, NC 27709.
506 | Walco Linck Company, 30856 Rocky Rd, Greeley, CO 80631-9375.
655 | Prentiss, INC., 3600 Mansell Rd, Suite 350, Alpharetta, GA 30022.
769 | Value Gardens Supply, LLC, P.O. Box 585, St. Joseph, MO 64502.
802 | Lilly Miller Brands, P.O. Box 1019, Salem, VA 24153-3805.
1448 | Buckman Laboratories Inc., 1256 North McLean Blvd, Memphis, TN 38108.
1663 | Grant Laboratories, Inc., Registrations by Design, Inc., P.O. Box 1019, Salem, VA 24153.
1677 | Ecolab Inc., 370 North Wabasha St., St. Paul, MN 55102.
1839 | Stepan Company, 22 W. Frontage Rd, Northfield, IL 60093.
4822 | S.C. Johnson & Son, Inc., 1525 Howe St., Racine, WI 53403.
5481 | Amvac Chemical Corporation, 4695 MacArthur Court, Suite 1250, Newport Beach, CA 92660.
5741 | Spartan Chemical Company, Inc., 1110 Spartan Drive, Maumee, OH 43537.
5785 | Great Lakes Chem Corps, P.O. Box 2200, West Lafayette, IN 47996-2200.
8329 | Clarke Mosquito Control Products, Inc., P.O. Box 72197, Roselle, IL 60172.
8622 | ICL-IP America, Inc., 95 MacCorkle Avenue, SW, South Charleston, WV 25303.
9688 | Chemsico, Div of United Industries Corp, P.O. Box 142642, St Louis, MO 63114-0642.
9779 | Agriliance, LLC, P.O. Box 64089, St. Paul, MN 55164-0089.
28293 | Phaeton Corporation, Agent Registrations By Design, Inc, P.O. Box 1019 Salem, VA 24153.
33753 | BASF Corporation, 100 Campus Drive, Florham Park, NJ 07932.
34704 | Loveland Products, Inc., P.O. Box 1286, Greeley, Colorado 80632-1286.
51036 | Basf Sparks LLC, PO Box 13528, Research Triangle Park, NC 27709-3528.
53883 | Control Solutions, Inc., 427 Hide Away Circle, Cub Run, KY 42729.
66330 | Arysta Lifescience North America, LLC, 155401 Weston Parkway, Suite 150, Cary, NC 27513.
72155 | Bayer Advanced, A Business Unit of Bayer Cropscience LP, 2 T.W. Alexander Drive, P.O. Box 12014, Research Triangle Park, NC 27709.
72642 | Elanco Animal Health, A Division of Eli Lilly & Co., 4061 North 156th Drive, Goodyear, AZ 85338.
AL000001, AL050003 AL060003, AR000006, AR050009, CA000001, GA050006, LA050012, LA090005, MS000009, MS050018, SC050005, TX050004 | United Phosphorus, Inc., 630 Freedom Business Center, Suite 402, King of Prussia, PA 19406.
AZ900003, AZ900008, FL970009, FL970010, HI910006, | Great Lakes Chem Corps, P.O. Box 2200 West Lafayette, IN 47996-2200.
FL070008 | Clarke Mosquito Control Products, Inc., P.O. Box 72197, Roselle, IL 60172.
FL080015 | Value Gardens Supply, LLC, P.O. Box 585, Saint Joseph, MO 64502.
MO990005 | Missouri Aquaculture Association, P.O. Box 630, Jefferson City, MO 65102-6864.
MT050002, NY080011, IL100001 | Prentiss, Inc., 3600 Mansell Rd, Suite 350, Alpharetta, GA 30022.
TX990012 | Cerexagri, Inc., 630 Freedom Business Center, Suite 402, King of Prussia, PA 19406.

III. What is the agency's authority for taking this action?

Section 6(f)(1) of FIFRA provides that a registrant of a pesticide product may at any time request that any of its pesticide registrations be canceled. FIFRA further provides that, before acting on the request, EPA must publish a notice of receipt of any such request in the Federal Register.

Section 6(f)(1)(B) of FIFRA requires that before acting on a request for voluntary cancellation, EPA must provide a 30-day public comment period on the request for voluntary cancellation or use termination. In addition, FIFRA section 6(f)(1)(C) requires that EPA provide a 180-day comment period on a request for voluntary cancellation or termination of any minor agricultural use before granting the request, unless:

1. The registrants request a waiver of the comment period, or

2. The EPA Administrator determines that continued use of the pesticide would pose an unreasonable adverse effect on the environment.

The registrants in Table 2 of Unit II. have requested that EPA waive the 180-day comment period. Accordingly, EPA will provide a 30-day comment period on the proposed requests.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action. If the requests for voluntary cancellations are granted, the Agency intends to publish the cancellation order in the Federal Register.

A. For All Products Listed in Table 1a in Unit II

Because the Agency has identified no significant potential risk concerns associated with these pesticide products, upon cancellation of the products identified in Table 1a of Unit II., EPA anticipates allowing registrants to sell and distribute existing stocks of these products for 1 year after publication of the Cancellation Order in the Federal Register. Thereafter, registrants will be prohibited from selling or distributing the pesticide products identified in Table 1a of Unit II., except for export consistent with FIFRA section 17 or for proper disposal. Persons other than registrants will generally be allowed to sell, distribute, or use existing stocks until such stocks are exhausted, provided that such sale, distribution, or use is consistent with the terms of the previously approved labeling on, or that accompanied, the canceled products.

B. For All Products Listed in Table 1b in Unit II

Because the Agency has identified no significant potential risk concerns associated with these pesticide products, EPA proposes to include the following provisions for the treatment of any existing stocks of products containing temephos identified or referenced in Table 1b in Unit II.:

After December 31, 2015, registrants are prohibited from selling or distributing existing stocks of products containing temephos labeled for all uses.

After December 31, 2016, persons other than registrants are prohibited from selling or distributing existing stocks of products containing temephos labeled for all uses.

After December 31, 2016, existing stocks of products containing temephos labeled for all uses, already in the hands of users can be used legally until they are exhausted, provided that such use complies with the EPA-approved label and labeling of the affected product.

C. For All Products Listed in Table 1c in Unit II

Because the Agency has identified no significant potential risk concerns associated with these pesticide products, EPA proposes to include the following provisions for the treatment of any existing stocks of products containing methyl bromide or metam-sodium identified or referenced in Table 1c in Unit II.:

All sale or distribution by the registrant of existing stocks is prohibited after publication of the cancellation order in the Federal Register, unless that sale or distribution is solely for the purpose of facilitating disposal or export of the product.

Existing stocks may be sold and distributed by persons other than the registrant for 120 days from the date of the cancellation order.

Existing stocks may be used until exhausted, provided that such use complies with the EPA-approved label and labeling of the product.

List of Subjects

Environmental protection, Pesticides and pests.

Dated: October 29, 2010.
Richard P. Keigwin, Jr.,
Director, Pesticide Re-evaluation Division, Office of Pesticide Programs.

[FR Doc. 2010-28141 Filed 11-5-10; 8:45 am]

BILLING CODE 6560-50-P